DEPARTMENT OF STATE

[Public Notice 12560]

30-Day Notice of Proposed Information Collection: Statement Regarding a Valid Lost or Stolen U.S. Passport Book and/or Card

ACTION: Notice of request for public comments.

SUMMARY: The Department of State has submitted the information collection described below to the Office of Management and Budget (OMB) for approval. In accordance with the Paperwork Reduction Act of 1995, we are requesting comments on these collections from all interested individuals and organizations. The purpose of this Notice is to allow 30 days for public comment.

DATES: The Department will accept comments from the public up to November 6, 2024.

ADDRESSES: Written comments and recommendations for the proposed information collection should be sent within 30 days of publication of this notice to: www.reginfo.gov/public/do/PRAMain. Find this information collection by selecting “Currently under 30-day Review—Open for Public Comments” or by using the search function. You must include the DS form number, information collection title, and the OMB control number in any correspondence (if applicable). You may send requests for additional information regarding the collection listed in this notice, including requests for copies of the proposed collection instrument and supporting documents, to the following email address: Passport-Form-Comments@State.gov. You must include the DS form number and information collection title in the email subject line.

SUPPLEMENTARY INFORMATION:

• Title of Information Collection: Statement Regarding a Lost or Stolen U.S. Passport Book and/or Card.

• OMB Control Number: 1405-0014.

• Type of Request: Revision of a Currently Approved Collection.

• Originating Office: Bureau of Consular Affairs, Passport Services, Office of Program Management and Operational Support (CA/PPT/S/PMO).

• Form Number: DS-64.

• Respondents: Individuals or Households.

• Estimated Number of Respondents: 435,000.

• Estimated Number of Responses: 435,000.

• Average Time per Response: 5 minutes.

• Total Estimated Burden Time: 36,250 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Secretary of State is authorized to issue U.S. passports under 22 U.S.C. 211a et seq, 8 U.S.C. 1104, and Executive Order 11295 (August 5, 1966). Department regulations provide that individuals whose valid or potentially valid U.S. passports were lost or stolen must report the lost or stolen passport to the Department of State before receiving a new passport so that the lost or stolen passport can be invalidated (22 CFR parts 50 and 51). The Enhanced Border Security and Visa Entry Reform Act of 2002 (8 U.S.C. 1737) requires the Department of State to collect accurate information on lost or stolen U.S. passports and to enter that information into a data system. Form DS-64 collects information identifying the person who held the valid lost or stolen passport and provides details regarding the circumstances under which the passport was lost or stolen. As required by the cited authorities, we use the information collected to accurately identify the passport that must be invalidated and to make a record of the circumstances surrounding the lost or stolen passport.

Methodology

Passport bearers may submit the form on the Department of State's website, travel.state.gov, where it can be completed, signed, and submitted electronically. The DS-64 is also available at eforms.state.gov where it can be completed online and printed for signature and submission. Additionally, passport bearers have the option to call the National Passport Information Center (NPIC) at 1-877-487-2778 or mail in a hardcopy of the form. The form can be obtained at any passport agency or acceptance facility.

Amanda E. Smith,
Managing Director for Passport Support Operations, Bureau of Consular Affairs, Passport Services, Department of State.

[FR Doc. 2024-23100 Filed 10-4-24; 8:45 am]

BILLING CODE 4710-06-P